DEPARTMENT OF COMMERCE

International Trade Administration

[A-351-828]

Administrative Review of the Suspension Agreement on Certain Hot-Rolled Flat-Rolled Carbon-Quality Steel Products From Brazil: Extension of Time Limit for Final Results of Antidumping Duty Administrative Review

AGENCY: Import Administration, International Trade Administration, Department of Commerce.

EFFECTIVE DATE: December 3, 2001.

FOR FURTHER INFORMATION CONTACT: Michael Ferrier at (202) 482-1394, Phyllis Hall at (202) 482-1398, or Dena Aliadinov at (202) 482-3362, Import Administration, International Trade Administration, U.S. Department of Commerce, 14th Street and Constitution Ave, NW., Washington, DC 20230.

SUPPLEMENTARY INFORMATION:

Statutory Time Limits

Section 751(a)(3)(A) of the Tariff Act of 1930, as amended (the Act), requires the Department of Commerce (“the Department”) to make a preliminary determination within 245 days after the last day of the anniversary month of an order for which a review is requested, and a final determination within 120 days after the date on which the preliminary determination is published. However, if it is not practicable to complete the review within these time periods, section 751(a)(3)(A) of the Act allows the Department to extend the time limit for the preliminary determination to a maximum of 365 days and for the final determination to 180 days (or 300 days if the Department does not extend the time limit for the preliminary determination) from the date of publication of the preliminary determination.

Background

On July 6, 1999, the Department entered into Antidumping Duty Suspension Agreement regarding certain hot-rolled flat-rolled carbon-quality steel products (“hot-rolled steel”) from Brazil produced by Companhia Siderurgica Nacional (“CSN”), Usinas Siderurgicas de Minas Gerais (“USIMINAS”), and Companhia Siderurgica Paulista (“COSIPA”). This agreement was entered into under section 734(c) of the Tariff Act of 1930, as amended, requiring, among other things, that the estimated margin of each entry under the suspension agreement does not exceed 15 percent of the margin found in the investigation. In addition, the Agreement requires that sales of subject merchandise are not made below the reference price (calculated quarterly, to prevent price suppression or undercutting). On July 28, 2000, petitioners requested that the Department conduct an administrative review of the agreement. The Department initiated this review on September 6, 2000. See 65 FR 53980 (September 6, 2000). On March 8, 2001 the Department extended the time limit for completion of the preliminary results by 120 days. See 66 FR 13891 (March 8, 2001). The preliminary results were published on August 8, 2001. See 66 FR 41500 (August 8, 2001). The final results are due on December 6, 2001, which is 120 days after the date of publication for the preliminary results.

Extension of Time Limit for Final Results of Review

This is the first administrative review of this suspension agreement. There are several novel and complex issues relating to compliance with the suspension agreement, including those involving: The precise nature of the relationships between the Brazilian mills and other parties involved in the U.S. sales process; the appropriate methods of margin calculations with respect to the requirements of the suspension agreement; and the treatment of certain Brazilian domestic taxes. Because of these issues, we find it is not practicable to complete this review within the initial time limits mandated by section 751(a)(3)(A) of the Act. Therefore, we are fully extending the due date for the final results to 180 days after the publication date of the preliminary results, until February 4, 2002.

This extension of the time limit is in accordance with section 751(a)(3)(A) of the Act and 19 CFR 351.213(h)(2).

Dated: November 23, 2001.
Joseph A. Spetrini,
Deputy Assistant Secretary for Import Administration, Group III.

[FR Doc. 01-29808 Filed 11-30-01; 8:45 am]

BILLING CODE 3510-DS-P